DEPARTMENT OF ENERGY

Federal Energy Regulatory Commission

Combined Notice of Filings #1

Take notice that the Commission received the following electric rate filings:

Docket Numbers: ER10-2881-010; ER10-2882-010; ER10-2883-010; ER10-2884-010; ER10-2885-010; ER10-2641-010; ER10-2663-010; ER10-2886-010; ER13-1101-005; ER13-1541-004.

Applicants: Alabama Power Company, Southern Power Company, Mississippi Power Company, Georgia Power Company, Gulf Power Company, Oleander Power Project, Limited Partnership, Southern Company—Florida LLC, Southern Turner Cimarron I, LLC, Spectrum Nevada Solar, LLC, Camp Verde Solar, LLC.

Description: Notice of Change in Status of Alabama Power Company, et al.

Filed Date: 10/7/13.

Accession Number: 20131007-5167.

Comments Due: 5 p.m. ET 10/28/13.

Docket Numbers: ER11-4643-000.

Applicants: Portland General Electric Company.

Description: Portland General Electric Company Average System Cost Filing to be effective N/A.

Filed Date: 8/14/13.

Accession Number: 20130814-5139.

Comments Due: 5 p.m. ET 10/10/13.

Docket Numbers: ER13-1914-000.

Applicants: Southwest Power Pool, Inc.

Description: Response to Request for Additional Information of Southwest Power Pool, Inc.

Filed Date: 10/7/13.

Accession Number: 20131007-5174.

Comments Due: 5 p.m. ET 10/28/13.

Docket Numbers: ER13-1925-000.

Applicants: Public Service Company of Colorado.

Description: 2013-10-07_PSCo-TSGT-Refund Report-333 to be effective N/A.

Filed Date: 10/7/13.

Accession Number: 20131007-5135.

Comments Due: 5 p.m. ET 10/28/13.

Docket Numbers: ER14-47-000.

Applicants: AEP Texas North Company.

Description: TNC-Taylor EC-Golden Spread EC IA Amend #1 to be effective 9/10/2013.

Filed Date: 10/7/13.

Accession Number: 20131007-5119.

Comments Due: 5 p.m. ET 10/28/13.

Docket Numbers: ER14-48-000.

Applicants: AEP Texas North Company.

Description: TNC-SWTEC Amd #3 to Restated & Amended IA to be effective 9/10/2013.

Filed Date: 10/7/13.

Accession Number: 20131007-5128.

Comments Due: 5 p.m. ET 10/28/13.

Docket Numbers: ER14-49-000.

Applicants: PJM Interconnection, L.L.C.

Description: Notice of Cancellation Notice of PJM Interconnection, L.L.C. Interconnection Service Agreement No. 1598.

Filed Date: 10/7/13.

Accession Number: 20131007-5170.

Comments Due: 5 p.m. ET 10/28/13.

Docket Numbers: ER14-50-000.

Applicants: Public Service Company of Colorado.

Description: 2013-10-8_PSC-Fac-ConFacAgmt-350-0.0.0 to be effective 12/7/2013.

Filed Date: 10/8/13.

Accession Number: 20131008-5015.

Comments Due: 5 p.m. ET 10/29/13.

Docket Numbers: ER14-51-000.

Applicants: Southwest Power Pool, Inc.

Description: 2564 City of Chanute and Westar Energy Meter Agent Agreement to be effective 10/1/2013.

Filed Date: 10/8/13.

Accession Number: 20131008-5034.

Comments Due: 5 p.m. ET 10/29/13.

Docket Numbers: ER14-52-000.

Applicants: Georgia Power Company.

Description: 2013 PBOP Filing to be effective 1/1/2013.

Filed Date: 10/8/13.

Accession Number: 20131008-5046.

Comments Due: 5 p.m. ET 10/29/13.

Docket Numbers: ER14-53-000.

Applicants: Mississippi Power Company.

Description: PBOP 2013 Filing to be effective 1/1/2013.

Filed Date: 10/8/13.

Accession Number: 20131008-5048.

Comments Due: 5 p.m. ET 10/29/13.

Docket Numbers: ER14-54-000.

Applicants: Southern Electric Generating Company.

Description: SEGCO 2013 PBOP Filing to be effective 1/1/2013.

Filed Date: 10/8/13.

Accession Number: 20131008-5049.

Comments Due: 5 p.m. ET 10/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2013.
Nathaniel J. Davis, Sr.,
Deputy Secretary.

[FR Doc. 2013-24478 Filed 10-17-13; 8:45 am]

BILLING CODE 6717-01-P